Proclamation 9804 of October 10, 2018

General Pulaski Memorial Day, 2018

By the President of the United States of America

A Proclamation

Today, we pay tribute to the Polish immigrant and renowned military commander, General Casimir Pulaski, who gave his life for the cause of freedom during the American Revolutionary War. In the Continental Army, General Pulaski volunteered to serve alongside our Nation's forefathers in their cause for independence. His expertise on the battlefield, tactical insights, and creation of a highly effective corps of mounted infantry earned him the title of “Father of the American Cavalry.” On General Pulaski Memorial Day, we commemorate his legacy and draw inspiration from his stalwart commitment to liberty, the rule of law, and the sovereignty of the people.

As a younger man, Count Casimir Pulaski developed a reputation for tremendous bravery while fighting with his father to free his native Poland from Russian control. When Russia nevertheless prevailed, Pulaski faced exile and crossed Europe into France. There, in a fortuitous turn of events for America, Pulaski crossed paths with Benjamin Franklin, who urged him to join the cause of American independence. Rising rapidly through the ranks of the Continental Army to the position of Brigadier General, Pulaski demonstrated uncommon and contagious courage on the battlefield, saving the life of General George Washington at the Battle of Brandywine and transforming a cavalry legion of Americans, Germans, Frenchman, Irishmen, and Poles into a lethal fighting force.

On October 9, 1779, General Pulaski was severely wounded during the Battle of Savannah. Two days later, he died. In his memory, General Washington wrote that “[t]he Count's valor and active zeal on all occasions have done him great honor.” Although General Pulaski did not live to see the Star-Spangled Banner fly victoriously over the field at Yorktown, his legacy of heroism and sacrifice is etched into our history, alongside that of heroes like Marquis de Lafayette and Bernardo de Gálvez, and has inspired Americans for generations. By giving his last full measure of devotion for our freedom and independence, General Pulaski embodied the special bond that the American and Polish people cherish to this day. Indeed, more than two centuries after the General's heroic death, and 100 years since Poland gained its own independence, the United States of America and Poland continue to share a kindred devotion to the cause of freedom and to strengthening the bilateral relationship between our two countries.

NOW, THEREFORE, I, DONALD J. TRUMP, President of the United States of America, by virtue of the authority vested in me by the Constitution and the laws of the United States, do hereby proclaim October 11, 2018, as General Pulaski Memorial Day. I encourage all Americans to commemorate on this occasion those who have contributed to the furthering of our Nation.

IN WITNESS WHEREOF, I have hereunto set my hand this tenth day of October, in the year of our Lord two thousand eighteen, and of the Independence of the United States of America the two hundred and forty-third.

[FR Doc. 2018-22558

Filed 10-12-18; 11:15 am]

Billing code 3295-F9-P